DEPARTMENT OF COMMERCE

International Trade Administration

[A-549-822]

Certain Frozen Warmwater Shrimp from Thailand; Notice of Amended Final Results of Antidumping Duty Administrative Review

AGENCY: Import Administration, International Trade Administration, Department of Commerce.

DATES: Effective Date: February 7, 2011.

FOR FURTHER INFORMATION CONTACT: Elizabeth Eastwood, AD/CVD Operations, Office 2, Import Administration, International Trade Administration, U.S. Department of Commerce, 14th Street and Constitution Avenue, NW., Washington, DC 20230; telephone (202) 482-3874.

SUPPLEMENTARY INFORMATION:

Amended Final Results

On September 12, 2007, the Department of Commerce (the Department) published the final results of its administrative review of the antidumping duty order on certain frozen warmwater shrimp (shrimp) from Thailand. See Certain Frozen Warmwater Shrimp from Thailand: Final Results and Final Partial Rescission of Antidumping Duty Administrative Review, 72 FR 52065 (Sept. 12, 2007). The period of review (POR) is August 4, 2004, through January 31, 2006.

As part of this decision, the Department assigned an adverse facts available (AFA) rate to Gallant Ocean (Thailand) Co., Ltd. (Gallant Ocean), an exporter of Thai shrimp to the United States. The application of AFA was necessitated by the fact that Gallant Ocean failed to cooperate with the Department by ignoring multiple requests for information.

Following the publication of the final results, Gallant Ocean filed a lawsuit with the United States Court of International Trade (CIT) challenging the Department's final results of administrative review. See Gallant Ocean (Thailand) Co., Ltd. v. United States, Court No. 07-00360. In January 2009, the CIT found that the Department's decision was supported by substantial evidence and in accordance with law, and thus it sustained this decision in all respects. See Gallant Ocean (Thailand) Co., Ltd v. United States, 602 F. Supp. 2d 1337 (CIT 2009).

Gallant Ocean then appealed the CIT's decision before the Court of Appeals for the Federal Circuit (CAFC). On April 16, 2010, the CAFC agreed with Gallant Ocean and vacated the CIT's ruling. The CAFC ordered the CIT to remand it back to the Department “for further proceedings consistent with this opinion.” See Gallant Ocean, 602 F.3d at 1325, corrected June 30, 2010. On October 20, 2010, the Department issued its final results of redetermination pursuant to the CAFC's ruling. See Gallant Ocean (Thailand) Co., Ltd v. United States, Final Results of Redetermination Pursuant to Court Remand (Oct. 20, 2010).

The United States and Gallant Ocean have now entered into an agreement to settle this dispute. Pursuant to the terms of the agreement between the United States and Gallant Ocean, we will liquidate Gallant Ocean's entries during the POR at the 12.55 percent rate agreed to by the parties.

We are issuing this determination and publishing these amended final results and notice in accordance with 19 U.S.C. 1516a(e).

Dated: January 31, 2011.
Paul Piquado,
Acting Deputy Assistant Secretary for Import Administration.

[FR Doc. 2011-2615 Filed 2-4-11; 8:45 am]

BILLING CODE 3510-DS-P